FEDERAL COMMUNICATIONS COMMISSION

Notice of Public Information Collection(s) Being Reviewed by the Federal Communications Commission for Extension Under Delegated Authority

November 26, 2003.

SUMMARY: The Federal Communications Commission, as part of its continuing effort to reduce paperwork burden invites the general public and other Federal agencies to take this opportunity to comment on the following information collection(s), as required by the Paperwork Reduction Act of 1995, Pub. L. No. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments February 6, 2004. If you anticipate that you will be submitting comments, but find it difficult to do so within the period of time allowed by this notice, you should advise the contact listed below as soon as possible.

ADDRESSES: Direct all Paperwork Reduction Act (PRA) comments to Judith B. Herman, Federal Communications Commission, 445 12th Street, SW., Room 1-C804, Washington, DC 20554 or via the Internet to Judith-B.Herman@fcc.gov.

FOR FURTHER INFORMATION CONTACT: For additional information or copies of the information collections contact Judith B. Herman at 202-418-0214 or via the Internet at Judith-B.Herman@fcc.gov.

SUPPLEMENTARY INFORMATION: OMB Control No.: 3060-0955.

Title: 2 GHz Mobile Satellite Service Reports.

Form No.: N/A.

Type of Review: Extension of a currently approved collection.

Respondents: Business or other for profit.

Number of Respondents: 9.

Estimated Time Per Response: 3 hours.

Frequency of Response: On occasion reporting requirement and recordkeeping requirement.

Total Annual Burden: 27 hours.

Annual Cost Burden: $14,000.

Needs and Uses: The 2 GHz mobile satellite service rules, 47 CFR Part 25, require disclosure in the form of a narrative statement, through amendments to applications or letters of intent, or orbital debris mitigation design and operational strategies and a casualty risk assessment if planned post-mission disposal involves atmospheric re-entry of spacecraft. This requirement will permit the Commission and the public to comment on each system's design. Two GHz mobile satellite systems receiving expansion spectrum as part of the rural and unserved areas spectrum incentive must provide a report on the actual number of subscriber minutes originating or terminating in unserved areas as a percentage of the actual U.S. system use. This rule will permit the Commission to verify that service is being provided in rural and unserved areas. In addition, system proponents will have to complete critical design review (CDR) within two years of authorization. CDR is a new milestone for satellite services and will permit the Commission to more closely monitor system construction. Without such information, the Commission could not determine whether satellite licensees are operating in conformance with the Commission's rules.

OMB Control No.: 3060-0969.

Title: Availability of INTELSAT Space Segment Capacity to Users and Providers Seeking to Access INTELSAT Directly.

Form No.: N/A.

Type of Review: Extension of a currently approved collection.

Respondents: Business or other for-profit entities.

Number of Respondents: 10.

Estimated Time Per Response: 2 hours.

Frequency of Response: One time filing requirement.

Total Annual Burden: 20 hours.

Annual Cost Burden: $3,000.

Needs and Uses: The Commission is seeking extension (no change) to this information collection. On 9/19/00, the Commission released a Report and Order in IB Docket No. 00-91, FCC 00-340, pursuant to the recently enacted Open-Market Reorganization for the Betterment of International Telecommunications Act (ORBIT Act). Section 641(b) of the Communications Satellite Act of 1962, as amended by the ORBIT Act, requires the FCC to determine whether “sufficient opportunity” exists for users and service providers to “to access INTELSAT space segment capacity directly from INTELSAT to meet their service and capacity requirements.” The Report and Order concluded that users and service providers currently do not have sufficient opportunity for direct access to INTELSAT. The Report and Order also concluded that the FCC should adopt a “commercial solution”. This requires the parties—Comsat (which controls the most U.S. accessible capacity) and other direct access users, to attempt to negotiate mutually agreeable arrangements and to file reports with the Commission on or before March 13, 2001 on the progress of their negotiations.

OMB Control No.: 3060-0357.

Title: Section 63.701, Requests for Designation as a Recognized Private Operating Agency (RPOA).

Form No.: N/A.

Type of Review: Extension of a currently approved collection.

Respondents: Business or other for-profit entities.

Number of Respondents: 10.

Estimated Time Per Response: 3.5 hours.

Frequency of Response: One time filing requirement.

Total Annual Burden: 35 hours.

Annual Cost Burden: $11,900 (rounded to $12,000).

Needs and Uses: The Commission requests this information in order to make recommendations to the U.S. Department of State for granting recognized private operating agency (RPOA) status to requesting entities. The Commission does not require entities to request RPOA status. Rather, this is a voluntary application process for use by companies that believe that obtaining RPOA status will be beneficial in persuading foreign governments to allow them to conduct business abroad. RPOA status also permits companies to join the International Telecommunications Union's (ITU's) Telecommunications Sector, which is the standards-setting body of the ITU.

Federal Communications Commission.
Marlene H. Dortch,
Secretary.

[FR Doc. 03-30304 Filed 12-5-03; 8:45 am]

BILLING CODE 6712-01-P